SURFACE TRANSPORTATION BOARD

[Docket No. AB 33 (Sub-No. 282X)]

Union Pacific Railroad Company—Discontinuance of Service Exemption—in Iroquois County, IL

Union Pacific Railroad Company (UP) has filed a verified notice of exemption under 49 CFR part 1152 subpart F—Exempt Abandonments and Discontinuances of Service to discontinue service over a 6.03-mile portion of the Cissna Park Industrial Lead between milepost 98.20 and milepost 104.23 at Cissna Park in Iroquois County, Ill. (the Line). The Line traverses United States Postal Service Zip Codes 60924 and 60953.

UP has certified that: (1) no local or overhead traffic has moved over the Line for at least two years; (2) there is no need to reroute any traffic over other lines; (3) no formal complaint filed by a user of rail service on the Line (or by a state or local government entity acting on behalf of such user) regarding cessation of service over the Line is pending either with the Surface Transportation Board (Board) or with any U.S. District Court or has been decided in favor of complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective on June 21, 2017, unless stayed pending reconsideration.¹ Petitions to stay that do not involve environmental issues and formal expressions of intent to file an OFA to subsidize continued rail service under 49 CFR 1152.27(c)(2) ² must be filed by June 1, 2017.³ Petitions to reopen must be filed by June 9, 2017, with the Surface Transportation Board, 395 E Street SW., Washington, DC 20423-0001.

¹ Although UP states in its verified notice that the proposed consummation date of this transaction is June 19, 2017, this transaction cannot be consummated until June 21, 2017 (50 days from its filing date). 49 CFR 1152.50(d)(2).

² Each OFA must be accompanied by the filing fee, which is currently set at $1,700. See 49 CFR 1002.2(f)(25).

³ Because this is a discontinuance proceeding and not an abandonment, interim trail use/rail banking and public use conditions are not appropriate. Because there will be an environmental review during abandonment, this discontinuance does not require an environmental review.

A copy of any petition filed with the Board should be sent to Mack H. Shumate, Jr., Union Pacific Railroad Company, 101 North Wacker Drive, Room 1920, Chicago, IL 60606.

If the verified notice contains false or misleading information, the exemption is void ab initio.

Board decisions and notices are available on our Web site at “WWW.STB.GOV.”

Decided: May 17, 2017.
By the Board, Rachel D. Campbell, Director, Office of Proceedings.
Jeffrey Herzig,
Clearance Clerk.

[FR Doc. 2017-10611 Filed 5-22-17; 8:45 am]

BILLING CODE 4915-01-P